SECURITIES AND EXCHANGE COMMISSION

17 CFR Part 200

[Release Nos. 33-8071; 34-45601 35-27505; 39-2396; IC-25471; and IA-2021]

Approved Information Collections

AGENCY: Securities and Exchange Commission.

ACTION: Final rule.

SUMMARY: The Commission is amending its rules concerning information collection requirements under the Paperwork Reduction Act to update the display of OMB control numbers associated with the Commission's collection of information. The display does not alter any Commission collection of information.

EFFECTIVE DATE: March 27, 2002.

FOR FURTHER INFORMATION CONTACT: Michael E. Bartell, Associate Executive Director at U.S. Securities and Exchange Commission, 450 5th Street, NW., Washington, DC 20549, 202-942-8800.

SUPPLEMENTARY INFORMATION: The Securities and Exchange Commission (“Commission”) is updating the information displayed at 17 CFR 200.800. This amendment sets forth control numbers assigned by the Office of Management and Budget to information collection requirements of the Commission as of the date of this release. The Commission finds that this amendment pertains to agency organization, procedure, or practice and is therefore not subject to the provisions of the Administrative Procedure Act, 5 U.S.C. 553, requiring advance notice and opportunity for public comment prior to publication. In addition, the Commission finds good cause for immediate effectiveness upon publication in the Federal Register. Delayed effectiveness is unnecessary because this is a technical amendment and will not affect any rights or obligations of members of the public.

List of Subjects in 17 CFR Part 200

Administrative practice and procedure, Freedom of information, Privacy.

Text of Amendment

For the reasons set forth in the Preamble, Title 17, Chapter II of the Code of Federal Regulations is amended as follows:

PART 200—ORGANIZATION; CONDUCT AND ETHICS; AND INFORMATION AND REQUESTS

1. The title to Subpart N and Subpart N are revised to read as follows:

Subpart N—Commission Information Collection Requirements Under the Paperwork Reduction Act: OMB Control Numbers

Authority: 44 U.S.C. 3506; 44 U.S.C. 3507.

§ 200.800 OMB control numbers assigned pursuant to the Paperwork Reduction Act.

(a) Purpose: This subpart collects and displays the control numbers assigned to information collection requirements of the Commission by the Office of Management and Budget pursuant to the Paperwork Reduction Act of 1980, 44 U.S.C. 3500 et seq. This subpart displays current OMB control numbers for those information collection requirements of the Commission that are rules and regulations and codified in 17 CFR either in full text or incorporated by reference with the approval of the Director of the Office of the Federal Register.

(b) Display.

Information collection requirement | 17 CFR part or section where identified and described | Current OMB Control No.
Regulation S-X | PART 210 | 3235-0009
Regulation S-B | PART 228 | 3235-0417
Regulation S-K | PART 229 | 3235-0071
Rule 154 | 230.154 | 3235-0495
Rule 155 | 230.155 | 3235-0549
Rule 236 | 230.236 | 3235-0095
Rule 237 | 230.237 | 3235-0528
Regulation A | 230.251 thru 230.263 | 3235-0286
Regulation C | 230.400 thru 230.494 | 3235-0074
Rule 425 | 230.425 | 3235-0521
Rule 477 | 230.477 | 3235-0550
Rule 489 | 230.489 | 3235-0411
Rule 498 | 230.498 | 3235-0488
Regulation D | 230.501 thru 230.506 | 3235-0076
Regulation E | 230.601 thru 230.610a | 3235-0232
Rule 604 | 230.604 | 3235-0232
Rule 605 | 230.605 | 3235-0232
Rule 609 | 230.609 | 3235-0233
Rule 701 | 230.701 | 3235-0522
Regulation S | 230.901 thru 230.905 | 3235-0357
Regulation S-T | Part 232 | 3235-0424
Form SB-1 | 239.9 | 3235-0423
Form SB-2 | 239.10 | 3235-0418
Form S-1 | 239.11 | 3235-0065
Form S-2 | 239.12 | 3235-0072
Form S-3 | 239.13 | 3235-0073
Form N-2 | 239.14 | 3235-0026
Form N-1A | 239.15A | 3235-0307
Form S-6 | 239.16 | 3235-0184
Form S-8 | 239.16b | 3235-0066
Form N-3 | 239.17a | 3235-0316
Form N-4 | 239.17b | 3235-0318
Form S-11 | 239.18 | 3235-0067
Form N-14 | 239.23 | 3235-0336
Form N-5 | 239.24 | 3235-0169
Form S-4 | 239.25 | 3235-0324
Form F-1 | 239.31 | 3235-0258
Form F-2 | 239.32 | 3235-0257
Form F-3 | 239.33 | 3235-0256
Form F-4 | 239.34 | 3235-0325
Form F-6 | 239.36 | 3235-0292
Form F-7 | 239.37 | 3235-0383
Form F-8 | 239.38 | 3235-0378
Form F-9 | 239.39 | 3235-0377
Form F-10 | 239.40 | 3235-0380
Form F-80 | 239.41 | 3235-0404
Form F-X | 239.42 | 3235-0379
Form F-N | 239.43 | 3235-0411
Form ET | 239.62 | 3235-0329
Form ID | 239.63 | 3235-0328
Form SE | 239.64 | 3235-0327
Form TH | 239.65 | 3235-0425
Form 1-A | 239.90 | 3235-0286
Form 2-A | 239.91 | 3235-0286
Form 144 | 239.144 | 3235-0101
Form 1-E | 239.200 | 3235-0232
Form CB | 239.800 | 3235-0518
Rule 6a-1 | 240.6a-1 | 3235-0017
Rule 6a-3 | 240.6a-3 | 3235-0021
Rule 6a-4 | 240.6a-4 | 3235-0554
Rule 6h-1 | 240.6h-1 | 3235-0555
Rule 8c-1 | 240.8c-1 | 3235-0514
Rule 9b-1 | 240.9b-1 | 3235-0480
Rule 10a-1 | 240.10a-1 | 3235-0475
Rule 10b-10 | 240.10b-10 | 3235-0444
Rule 10b-17 | 240.10b-17 | 3235-0476
Rule 10b-18 | 240.10b-18 | 3235-0474
Rule 10A-1 | 240.10A-1 | 3235-0468
Rule 11a1-1(T) | 240.11a1-1(T) | 3235-0478
Rule 11Aa3-2 | 240.11Aa3-2 | 3235-0500
Rule 11Ab2-1 | 240.11Ab2-1 | 3235-0043
Rule 11Ac1-3 | 240.11Ac1-3 | 3235-0435
Rule 11Ac1-4 | 240.11Ac1-4 | 3235-0462
Rule 11Ac1-5 | 240.11Ac1-5 | 3235-0542
Rule 11Ac1-6 | 240.11Ac1-6 | 3235-0541
Rule 11Ac1-6 | 240.11Ac1-6 | 3235-0541
Rule 11Ac1-7 | 240.11Ac1-7 | 3235-0543
Rule 12a-5 | 240.12a-5 | 3235-0079
Regulation 12B | 240.12b-1 thru 240.12b-36 | 3235-0062
Rule 12d1-3 | 240.12d1-3 | 3235-0109
Rule 12d2-1 | 240.12d2-1 | 3235-0081
Rule 12d2-2 | 240.12d2-2 | 3235-0080
Rule 12f-1 | 240.12f-1 | 3235-0128
Rule 13a-16 | 240.13a-16 | 3235-0116
Regulation 13D/G | 240.13d-1 thru 240.13d-7 | 3235-0145
Schedule 13D | 240.13d-101 | 3235-0145
Schedule 13G | 240.13d-102 | 3235-0145
Rule 13e-1 | 240.13e-1 | 3235-0305
Rule 13e-3 | 240.13e-3 | 3235-0007
Schedule 13E-3 | 240.13e-100 | 3235-0007
Schedule 13e-4F | 240.13e-101 | 3235-0375
Regulation 14A | 240.14a-1 thru 240.14a-12 | 3235-0059
Schedule 14A | 240.14a-101 | 3235-0059
Regulation 14C | 240.14c-1 | 3235-0057
Schedule 14C | 240.14c-101 | 3235-0057
Regulation 14D | 240.14d-1 thru 240.14d-9 | 3235-0102
Schedule TO | 240.14d-100 | 3235-0515
Schedule 14D-1 | 240.14d-101 | 3235-0102
Schedule 14D-9 | 240.14d-101 | 3235-0102
Schedule 14D-1F | 240.14d-102 | 3235-0376
Schedule 14D-9F | 240.14d-103 | 3235-0382
Regulation 14E | 240.14e-1 thru 240.14e-2 | 3235-0102
Rule 14f-1 | 240.14f-1 | 3235-0108
Rule 15a-4 | 240.15a-4 | 3235-0010
Rule 15a-6 | 240.15a-6 | 3235-0371
Rule 15b1-1 | 240.15b1-1 | 3235-0012
Rule 15b6-1(a) | 240.15b6-1(a) | 3235-0018
Rule 15c1-5 | 240.15c1-5 | 3235-0471
Rule 15c1-6 | 240.15c1-6 | 3235-0472
Rule 15c1-7 | 240.15c1-7 | 3235-0134
Rule 15c2-1 | 240.15c2-1 | 3235-0485
Rule 15c2-5 | 240.15c2-5 | 3235-0198
Rule 15c2-7 | 240.15c2-7 | 3235-0479
Rule 15c2-8 | 240.15c2-8 | 3235-0481
Rule 15c2-11 | 240.15c2-11 | 3235-0202
Rule 15c2-12 | 240.15c2-12 | 3235-0372
Rule 15c3-1 | 240.15c3-1 | 3235-0200
Rule 15c3-1(c)(13) | 240.15c3-1(c)(13) | 3235-0499
Appendix F to Rule 15c3-1 | 240.15c3-1f | 3235-0496
Rule 15c3-3 | 240.15c3-3 | 3235-0078
Rule 15c3-4 | 240.15c3-4 | 3235-0497
Rule 15d-16 | 240.15d-16 | 3235-0116
Rule 15g-2 | 240.15g-2 | 3235-0434
Rule 15g-3 | 240.15g-3 | 3235-0392
Rule 15g-4 | 240.15g-4 | 3235-0393
Rule 15g-5 | 240.15g-5 | 3235-0394
Rule 15g-6 | 240.15g-6 | 3235-0395
Rule 15g-9 | 240.15g-9 | 3235-0385
Rule 15Aj-1 | 240.15Aj-1 | 3235-0044
Rule 15Ba2-1 | 240.15Ba2-1 | 3235-0083
Rule 15Ba2-5 | 240.15Ba2-5 | 3235-0088
Rule 15Bc3-1 | 240.15Bc3-1 | 3235-0087
Rule 17a-1 | 240.17a-1 | 3235-0208
Rule 17a-2 | 240.17a-2 | 3235-0201
Rule 17a-3 | 240.17a-3 | 3235-0033
Rule 17a-3(a)(16) | 240.17a-3(a)(16) | 3235-0508
Rule 17a-4 | 240.17a-4 | 3235-0279
Rule 17a-4(b)(10) | 240.17a-4(b)(10) | 3235-0506
Rule 17a-5 | 240.17a-5 | 3235-0123
Rule 17a-5(c) | 240.17a-5(c) | 3235-0199
Rule 17a-6 | 240.17a-6 | 3235-0489
Rule 17a-7 | 240.17a-7 | 3235-0131
Rule 17a-8 | 240.17a-8 | 3235-0092
Rule 17a-9T | 240.17a-9T | 3235-0524
Rule 17a-10 | 240.17a-10 | 3235-0122
Rule 17a-11 | 240.17a-11 | 3235-0085
Rule 17a-12 | 240.17a-12 | 3235-0498
Rule 17a-13 | 240.17a-13 | 3235-0035
Rule 17a-19 | 240.17a-19 | 3235-0133
Rule 17a-22 | 240.17a-22 | 3235-0196
Rule 17a-25 | 240.17a-25 | 3235-0540
Rule 17f-1(b) | 240.17f-1(b) | 3235-0032
Rule 17f-1(c) | 240.17f-1(c) | 3235-0037
Rule 17f-1(g) | 240.17f-1(g) | 3235-0290
Rule 17f-2(a) | 240.17f-2(a) | 3235-0034
Rule 17f-2(c) | 240.17f-2(c) | 3235-0029
Rule 17f-2(d) | 240.17f-2(d) | 3235-0028
Rule 17f-2(e) | 240.17f-2(e) | 3235-0031
Rule 17f-5 | 240.17f-5 | 3235-0269
Rule 17h-1T | 240.17h-1T | 3235-0410
Rule 17h-2T | 240.17h-2T | 3235-0410
Rule 17Ab2-1 | 240.17Ab2-1(a) | 3235-0195
Rule 17Ac2-1 | 240.17Ac2-1 | 3235-0084
Rule 17Ad-2(c), (d), and (h) | 240.17Ad-2(c), (d) and (h) | 3235-0130
Rule 17Ad-3(b) | 240.17Ad-3(b) | 3235-0473
Rule 17Ad-4 (b) and (c) | 240.17Ad-4(b) and (c) | 3235-0341
Rule 17Ad-6 | 240.17Ad-6 | 3235-0291
Rule 17Ad-7 | 240.17Ad-7 | 3235-0291
Rule 17Ad-10 | 240.17Ad-10 | 3235-0273
Rule 17Ad-11 | 240.17Ad-11 | 3235-0274
Rule 17Ad-13 | 240.17Ad-13 | 3235-0275
Rule 17Ad-15 | 240.17Ad-15 | 3235-0409
Rule 17Ad-16 | 240.17Ad-16 | 3235-0413
Rule 17Ad-17 | 240.17Ad-17 | 3235-0469
Rule 19b-1 | 240.19b-1 | 3235-0354
Rule 19b-4 | 240.19b-4 | 3235-0045
Rule 19b-4(e) | 240.19b-4(e) | 3235-0504
Rule 19b-5 | 240.19b-5 | 3235-0507
Rule 19b-7 | 240.19b-7 | 3235-0553
Rule 19d-1 | 240.19d-1(b) thru 240.19d-1(i) | 3235-0206
Rule 19d-2 | 240.19d-2 | 3235-0205
Rule 19d-3 | 240.19d-3 | 3235-0204
Rule 19h-1 | 240.19h-1(a), (c) thru (e), and (g) | 3235-0259
Rule 24b-1 | 240.24b-1 | 3235-0194
Rule 101 | 242.101 | 3235-0464
Rule 102 | 242.102 | 3235-0467
Rule 103 | 242.103 | 3235-0466
Rule 104 | 242.104 | 3235-0465
Rule 301 | 242.301 | 3235-0509
Rule 302 | 242.302 | 3235-0510
Rule 303 | 242.303 | 3235-0505
Regulation FD | 243.100 thru 243.103 | 3235-0536
Regulation S-P | Part 248 | 3235-0537
Form 1 | 249.1 | 3235-0017
Form 1-N | 249.10 | 3235-0554
Form 25 | 249.25 | 3235-0080
Form 26 | 249.26 | 3235-0079
Form 3 | 249.103 | 3235-0104
Form 4 | 249.104 | 3235-0287
Form 5 | 249.105 | 3235-0362
Form 8-A | 249.208a | 3235-0056
Form 10 | 249.210 | 3235-0064
Form 10-SB | 249.210b | 3235-0419
Form 18 | 249.218 | 3235-0121
Form 20-F | 249.220f | 3235-0288
Form 40-F | 249.240f | 3235-0381
Form 6-K | 249.306 | 3235-0116
Form 8-K | 249.308 | 3235-0060
Form 10-Q | 249.308a | 3235-0070
Form 10-QSB | 249.308b | 3235-0416
Form 10-K | 249.310 | 3235-0063
Form 10-KSB | 249.310b | 3235-0420
Form 11-K | 249.311 | 3235-0082
Form 18-K | 249.318 | 3235-0120
Form 12B-25 | 249.322 | 3235-0058
Form 15 | 249.323 | 3235-0167
Form 13F | 249.325 | 3235-0006
Form SE | 249.444 | 3235-0327
Form ET | 249.445 | 3235-0329
Form ID | 249.446 | 3235-0328
Form DF | 249.448 | 3235-0482
Form BD | 249.501 | 3235-0012
Form BDW | 249.501a | 3235-0018
Form BD-N | 249.501b | 3235-0556
Form X-17A-5 | 249.617 | 3235-0123
Form X-17A-19 | 249.635 | 3235-0133
Form ATS | 249.637 | 3235-0509
Form ATS-R | 249.638 | 3235-0509
Form X-15AJ-1 | 249.802 | 3235-0044
Form X-15AJ-2 | 249.803 | 3235-0044
Form 19b-4 | 249.819 | 3235-0045
Form 19b-4(e) | 249.820 | 3235-0504
Form Pilot | 249.821 | 3235-0507
Form SIP | 249.1001 | 3235-0043
Form MSD | 249.1100 | 3235-0083
Form MSDW | 249.1110 | 3235-0087
Form X-17F-1A | 249.1200 | 3235-0037
Form TA-1 | 249b.100 | 3235-0084
Form TA-W | 249b.101 | 3235-0151
Form TA-2 | 249b.102 | 3235-0337
Form CA-1 | 249b.200 | 3235-0195
Rule 1(a) | 250.1(a) | 3235-0170
Rule 1(b) | 250.1(b) | 3235-0170
Rule 1(c) | 250.1(c) | 3235-0164
Rule 2 | 250.2 | 3235-0161
Rule 3 | 250.3 | 3235-0160
Rule 7 | 250.7 | 3235-0165
Rule 7(d) | 250.7(d) | 3235-0165
Rule 20(b) | 250.20(b) | 3235-0125
Rule 20(c) | 250.20(c) | 3235-0125
Rule 20(d) | 250.20(d) | 3235-0163
Rule 23 | 250.23 | 3235-0125
Rule 24 | 250.24 | 3235-0126
Rule 26 | 250.26 | 3235-0183
Rule 29 | 250.29 | 3235-0149
Rule 44 | 250.44 | 3235-0147
Rule 45 | 250.45 | 3235-0154
Rule 47(b) | 250.47(b) | 3235-0163
Rule 52 | 250.52 | 3235-0369
Form 53 | 250.53 | 3235-0426
Rule 54 | 250.54 | 3235-0427
Rule 57(a) | 250.57(a) | 3235-0428
Rule 57(b) | 250.57(b) | 3235-0429
Rule 58 | 250.58 | 3235-0457
Rule 62 | 250.62 | 3235-0152
Rule 71(a) | 250.71(a) | 3235-0173
Rule 72 | 250.72 | 3235-0149
Rule 83 | 250.83 | 3235-0181
Rule 87 | 250.87 | 3235-0552
Rule 88 | 250.88 | 3235-0182
Rule 93 | 250.93 | 3235-0153
Rule 94 | 250.94 | 3235-0153
Rule 95 | 250.95 | 3235-0162
Rule 100(a) | 250.100(a) | 3235-0125
Uniform System of Accounts for Mutual Service Companies and Subsidiary Service Companies, Public Utility Holding Company Act of 1935. | Part 256 | 3235-0153
Preservation and Destruction of Records of Registered Public Utility Holding Companies and of Mutual and Subsidiary Service Companies. | Part 257 | 3235-0306
Form U5A | 259.5a | 3235-0170
Form U5B | 259.5b | 3235-0170
Form U5S | 259.5s | 3235-0164
Form U-1 | 259.101 | 3235-0125
Form U-13-1 | 259.113 | 3235-0182
Form U-6B-2 | 259.206 | 3235-0163
Form U-57 | 259.207 | 3235-0428
Form U-9C-3 | 259.208 | 3235-0457
Form U-12(I)-A | 259.212a | 3235-0173
Form U-12(I)-B | 259.212b | 3235-0173
Form U-13E-1 | 259.213 | 3235-0162
Form U-R-1 | 259.221 | 3235-0152
Form U-13-60 | 259.313 | 3235-0153
Form U-3A-2 | 259.402 | 3235-0161
Form U-3A3-1 | 259.403 | 3235-0160
Form U-7D | 259.404 | 3235-0165
Form U-33-S | 259.405 | 3235-0429
Form ET | 259.601 | 3235-0329
Form ID | 259.602 | 3235-0328
Form SE | 259.603 | 3235-0327
Rule 7a-15 thru 7a-37 | 260.7a-15 thru 260.7a-37 | 3235-0132
Form T-1 | 269.1 | 3235-0110
Form T-2 | 269.2 | 3235-0111
Form T-3 | 269.3 | 3235-0105
Form T-4 | 269.4 | 3235-0107
Form ET | 269.6 | 3235-0329
Form ID | 269.7 | 3235-0328
Form SE | 269.8 | 3235-0327
Form T-6 | 269.9 | 3235-0391
Rule 0-1 | 270.0-1 | 3235-0531
Rule 2a-7 | 270.2a-7 | 3235-0268
Rule 2a19-1 | 270.2a19-1 | 3235-0332
Rule 3a-4 | 270.3a-4 | 3235-0459
Rule 6c-7 | 270.6c-7 | 3235-0276
Rule 6e-2 | 270.6e-2 | 3235-0177
Rule 7d-1 | 270.7d-1 | 3235-0311
Rule 7d-2 | 270.7d-2 | 3235-0527
Section 8(b) of the Investment Company Act of 1940 | 270.8b-1 thru 270.8b-32 | 3235-0176
Rule 10f-3 | 270.10f-3 | 3235-0226
Rule 11a-2 | 270.11a-2 | 3235-0272
Rule 11a-3 | 270.11a-3 | 3235-0358
Rule 12b-1 | 270-12b-1 | 3235-0212
Rule 17a-7 | 270.17a-7 | 3235-0214
Rule 17a-8 | 270.17a-8 | 3235-0235
Rule 17e-1 | 270.17e-1 | 3235-0217
Rule 17f-1 | 270.17f-1 | 3235-0222
Rule 17f-2 | 270.17f-2 | 3235-0223
Rule 17f-4 | 270.17f-4 | 3235-0225
Rule 17f-6 | 270.17f-6 | 3235-0447
Rule 17f-7 | 270-17f-7 | 3235-0529
Rule 17g-1(g) | 270.17g-1(g) | 3235-0213
Rule 17j-1 | 270.17j-1 | 3235-0224
Rule 18f-1 | 270.18f-1 | 3235-0211
Rule 18f-3 | 270.18f-3 | 3235-0441
Rule 19a-1 | 270.19a-1 | 3235-0216
Rule 20a-1 | 270-20a-1 | 3235-0158
Rule 22d-1 | 270-22d-1 | 3235-0310
Rule 23c-1 | 270.23c-1 | 3235-0260
Rule 23c-3 | 270.23c-3 | 3235-0422
Rule 27e-1 | 270.27e-1 | 3235-0545
Rule 30b2-1 | 270.30b2-1 | 3235-0220
Rule 30d-2 | 270.30d-2 | 3235-0494
Rule 30e-1 | 270.30e-1 | 3235-0025
Rule 31a-1 | 270.31a-1 | 3235-0178
Rule 31a-2 | 270.31a-2 | 3235-0179
Rule 32a-4 | 270.32a-4 | 3235-0530
Rule 34b-1 | 270.34b-1 | 3235-0346
Rule 35d-1 | 270-35d-1 | 3235-0548
Form N-5 | 274.5 | 3235-0169
Form N-8A | 274.10 | 3235-0175
Form N-2 | 274.11a-1 | 3235-0026
Form N-3 | 274.11b | 3235-0316
Form N-4 | 274.11c | 3235-0318
Form N-8B-2 | 274.12 | 3235-0186
Form N-6F | 274.15 | 3235-0238
Form 24F-2 | 274.24 | 3235-0456
Form N-18F-1 | 274.51 | 3235-0211
Form N-54A | 274.53 | 3235-0237
Form N-54C | 274.54 | 3235-0236
Form N-SAR | 274.101 | 3235-0330
Form N-27E-1 | 274.127e-1 | 3235-0545
Form N-27F-1 | 274.127f-1 | 3235-0546
Form N-17D-1 | 274.200 | 3235-0229
Form N-23C-1 | 274.201 | 3235-0230
Form N-8F | 274.218 | 3235-0157
Form N-17F-1 | 274.219 | 3235-0359
Form N-17F-2 | 274.220 | 3235-0360
Form N-23c-3 | 274.221 | 3235-0422
Form ET | 274.401 | 3235-0329
Form ID | 274.402 | 3235-0328
Form SE | 274.403 | 3235-0327
Rule 0-2 | 275.0-2 | 3235-0240
Rule 203-3 | 275.203-3 | 3235-0538
Rule 204-2 | 275.204-2 | 3235-0278
Rule 204-3 | 275.204-3 | 3235-0047
Rule 206(3)-2 | 275.206(3)-2 | 3235-0243
Rule 206(4)-2 | 275.206(4)-2 | 3235-0241
Rule 206(4)-3 | 275.206(4)-3 | 3235-0242
Rule 206(4)-4 | 275.206(4)-4 | 3235-0345
Form ADV | 279.1 | 3235-0049
Schedule I to Form ADV | 279.1 | 3235-0490
Form ADV-W | 279.2 | 3235-0313
Form ADV-H | 379.3 | 3235-0538
Form 4-R | 279.4 | 3235-0240
Form 5-R | 279.5 | 3235-0240
Form 6-R | 279.6 | 3235-0240
Form 7-R | 279.7 | 3235-0240
Form ADV-E | 279.8 | 3235-0361

Dated: March 20, 2002.
By the Commission.
Jonathan G. Katz,
Secretary.

[FR Doc. 02-7287 Filed 3-26-02; 8:45 am]

BILLING CODE 8010-01-P